DEPARTMENT OF ENERGY

Federal Energy Regulatory Commission

[Docket No. EG05-31-000, et al.]

TransAlta Centralia Generation LLC, et al.; Electric Rate and Corporate Filings

January 24, 2005.

The following filings have been made with the Commission. The filings are listed in ascending order within each docket classification.

1. TransAlta Centralia Generation LLC

[Docket No. EG05-31-000]

On January 14, 2005, TransAlta Centralia Generation LLC (TACG) filed with the Commission an application for redetermination of exempt wholesale generator (EWG) status pursuant to part 365 of the Commission's regulations.

TACG states that copies of the application were sent to the Securities and Exchange Commission and the Oregon Public Utility Commission, the Washington Utilities and Transportation Commission, the California Public Utilities Commission, the Wyoming Public Service Commission, the Idaho Public Utility Commission, and the Utah Public Service Commission.

Comment Date: 5 p.m. Eastern Time on February 4, 2005.

2. Florida Power Corporation

[Docket No. ER97-2846-004]

Take notice that on December 23, 2004, Florida Power Corporation submitted a compliance filing pursuant to the Commission's Orders issued May 13, 2004 in Docket No. ER02-1406-001, et al., Arcadia Power Partners, LLC, 107 FERC ¶ 61,168 and July 8, 2004 in Docket No. ER96-2495-018, et al., AEP Power Marketing, Inc., 108 FERC ¶ 61,026.

Comment Date: 5 p.m. Eastern Time on February 3, 2005.

3. Central Vermont Public Service Corporation

[Docket No. ER98-2329-005]

Take notice that on January 13, 2005, Central Vermont Public Service Corporation (Central Vermont) tendered for filing information and data in support of its request for renewal of market-based rate authority filed on October 25, 2004 in Docket No. ER98-2329-003, as supplemented on November 9, 2005 in Docket No. ER98-2329-004.

Central Vermont states that a copy of the filing was served upon all parties to the Commission's official service list in Docket Nos. ER98-2329, the Vermont Public Service Board, and the New Hampshire Public Utilities Commission.

Comment Date: 5 p.m. Eastern Time on February 3, 2005.

4. Hermiston Generating Company, L.P.

[Docket No. ER01-2159-005]

Take notice that on January 13, 2005, Hermiston Generating Company, L.P. (Hermiston), submitted for filing a notice of a change in facts with respect to its ownership that represents a departure from the characteristics the Commission relied upon in granting market-based rate authority to Hermiston.

Comment Date: 5 p.m. Eastern Time on February 3, 2005.

5. CalPeak Power—Midway LLC, CalPeak Power—Panoche LLC, CalPeak Power—Vaca Dixon LLC, CalPeak Power—El Cajon LLC, CalPeak Power—Enterprise LLC, CalPeak Power—Border LLC

[Docket Nos. ER01-2537-001, ER01-2543-001, ER01-2544-001, ER01-2545-001, ER01-2546-001, ER01-2547-001]

Take notice that on January 13, 2005, CalPeak Power—Midway LLC, CalPeak Power—Panoche LLC, CalPeak Power—Vaca Dixon LLC, CalPeak Power—El Cajon LLC, CalPeak Power—Enterprise LLC, and CalPeak Power—Border LLC (collectively, the CalPeak Entities) submitted a triennial updated power analysis and revised tariff sheets to incorporate the Commission's market behavior rules adopted in Investigation of Terms and Conditions of Public Utility Market-Based Rate Authorizations, 105 FERC ¶ 61,218 (2003), order on reh'g, 107 FERC ¶ 61,175 (2004).

The CalPeak Entities state that copies of the filing were served upon parties on the official service lists in above-captioned proceedings.

Comment Date: 5 p.m. Eastern Time on February 3, 2005.

6. HC Power Marketing L.L.C.

[Docket No. ER02-388-003]

Take notice that on January 13, 2005, HC Power Marketing (HCPM) submitted for filing a triennial updated market analysis.

HCPM states that copies of the filing were served upon the parties listed on the official service list compiled by the Secretary in Docket No. ER02-388.

Comment Date: 5 p.m. Eastern Time on February 3, 2005.

7. Southern California Edison Company

[Docket No. ER05-170-001]

Take notice that on January 13, 2005, Southern California Edison Company (SCE) submitted the Devil Canyon Service Agreement for Wholesale Distribution Service, Service Agreement No. 126, under FERC Electric Tariff, First Revised Volume No. 5 as a supplement to its November 2, 2004 filing under Docket No. ER05-170-000.

SCE states that copies of the filing were served upon those persons whose names appear on the official service list compiled by the Commission in this Docket No. ER05-170-000.

Comment Date: 5 p.m. Eastern Time on January 31, 2005.

8. Kansas City Power & Light Company

[Docket No. ER05-177-001]

Take notice that on January 14, 2005, Kansas City Power & Light Company (KCPL) submitted a compliance filing pursuant to the Commission's Order issued December 28, 2004 in Docket No. ER05-177-000. KCPL states that this filing pertains to service schedules for the City of Baldwin City, Kansas.

KCPL states that copies of the filing were served on the City of Baldwin City, Kansas as well as the Missouri Public Service Commission and the Kansas State Corporation Commission.

Comment Date: 5 p.m. Eastern Time on February 4, 2005.

9. Carolina Power & Light Company

[Docket No. ER05-183-000]

Take notice that on January 14, 2005, Carolina Power & Light Company filed a notice of withdrawal of its November 4, 2004 filing in Docket No. ER05-183-000 regarding a Generator Balancing Service Schedule under the Open Access Transmission Tariffs of CP&L and Florida Power Corporation.

Comment Date: 5 p.m. Eastern Time on February 4, 2005.

10. Virginia Electric and Power Company

[Docket No. ER05-197-001]

Take notice that on January 13, 2005, Virginia Electric and Power Company (VEPCO) submitted for filing a response to the deficiency letter issued on December 15, 2004 regarding VEPCO's November 8, 2004 filing in Docket No. ER005-197-000 of an executed Standard Large Generator Interconnection Agreement with CPV Warren, LLC. VEPCO requests an effective date of November 9, 2004.

VEPCO states that copies of the filing were served upon the Commission's official service list in Docket No. ER05-197 and the Virginia State Corporation Commission.

Comment Date: 5 p.m. Eastern Time on February 3, 2005.

11. JPMorgan Chase Bank, N.A.

[Docket No. ER05-283-001]

Take notice that on January 13, 2005, JPMorgan Chase Bank, N.A. (JPMCB) filed an amendment to its December 2, 2004 filing in Docket No. ER05-283-000 for acceptance of JPMCB's Rate Schedule FERC No. 1; the granting of certain blanket approvals, including the authority to sell electricity at market-based rates; and the waiver of certain Commission regulations.

Comment Date: 5 p.m. Eastern Time on February 3, 2005.

12. Avista Energy, Inc.

[Docket No. ER05-313-001]

Take notice that on January 13, 2005, Avista Energy, Inc. (Avista Energy) filed proposed revisions to its First Revised Rate Schedule FERC No. 1 originally filed on December 7, 2004 in Docket No. ER05-313-000.

Comment Date: 5 p.m. Eastern Time on February 3, 2005.

13. American Electric Power Service Corporation

[Docket No. ER05-450-000]

Take notice that on January 14, 2005, the American Electric Power Service Corporation (AEPSC), tendered for filing an Interconnection and Local Delivery Service Agreement between AEPSC and the City of Dowagiac, Michigan, designated as Substitute Service Agreement No. 532 under the Operating Companies of the American Electric Power System FERC Electric Tariff, Third Revised Volume No. 6. AEPSC requests an effective date of January 1, 2005.

AEPSC states that a copy of the filing was served upon the Party and the Michigan Public Service Commission.

Comment Date: 5 p.m. Eastern Time on February 4, 2005.

14. Wisconsin Electric Power Company

[Docket No. ER05-451-000]

Take notice that on January 14, 2005, Wisconsin Electric Power Company (Wisconsin Electric) submitted for filing revised Exhibit No. 4.4 of two Generation-Transmission Must Run Agreements between Wisconsin Electric and American Transmission Company, LLC (ATCLLC) to reflect updated inputs to the formula rate applicable to the sale of must run energy from several Wisconsin Electric generation units. Wisconsin Electric requests an effective date of January 1, 2005.

Wisconsin Electric states that copies of this filing were served upon ATCLLC, the Michigan Public Service Commission and the Public Service Commission of Wisconsin.

Comment Date: 5 p.m. Eastern Time on February 4, 2005.

15. Public Service Company of New Mexico

[Docket No. ER05-452-000]

Take notice that on January 14, 2005, Public Service Company of New Mexico (PNM) submitted for filing an executed service agreement for firm point-to-point transmission service and ancillary services between PNM Transmission Development and Contracts and PNM Wholesale Marketing, under the terms of PNM's open access transmission tariff. PNM requests an effective date of January 1, 2005.

PNM states that copies of the filing have been sent to PNM Wholesale Marketing, PNM Transmission Development and Contracts, the New Mexico Public Regulation Commission and the New Mexico Attorney General.

Comment Date: 5 p.m. Eastern Time on February 4, 2005.

16. Wisconsin River Power Company

[Docket No. ER05-453-000]

Take notice that on January 14, 2005, Wisconsin River Power Company (Wisconsin River) filed a market-based rate tariff for sales of energy and capacity into the Midwest Independent Transmission System Operator, Inc. (MISO) and the PJM Interconnection, L.L.C. (PJM) centralized markets and minor revisions to two power sales agreements to facilitate such sales. Wisconsin River requests an effective date of February 28, 2005.

Wisconsin River states that copies of the filing were served upon PJM, MISO, and the Michigan Public Service Commission.

Comment Date: 5 p.m. Eastern Time on February 4, 2005.

17. Bear Swamp Power Company LLC

[Docket No. ER05-454-000]

Take notice that on January 14, 2005, Bear Swamp Power Company LLC (Bear Swamp) submitted for filing, pursuant to section 205 of the Federal Power Act and Part 35 of the Commission's regulations an application for market-based rate authorization to sell energy, capacity, and ancillary services, and reassign transmission capacity and resell firm transmission rights. Bear Swamp also requests the waivers and exemptions from regulations typically granted to the holders of market-based rate authorization. Bear Swamp requests an effective date of March 15, 2005.

Comment Date: 5 p.m. Eastern Time on February 4, 2005.

18. Bellows Falls Power Company, LLC

[Docket No. ER05-455-000]

Take notice that on January 14, 2005, Bellows Falls Power Company, LLC (Bellows Falls) submitted for filing, pursuant to section 205 of the Federal Power Act and part 35 of the Commission's regulations an application for market-based rate authorization to sell energy, capacity, and ancillary services, and reassign transmission capacity and resell firm transmission rights. Bellow Falls also requests the waivers and exemptions from regulations typically granted to the holders of market-based rate authorization. Bellows Falls requests an effective date as of the date of closing on the lease of the Bellows Falls Hydroelectric Project which is expected to occur by the end of the first quarter of 2005.

Comment Date: 5 p.m. Eastern Time on February 4, 2005.

19. PJM Interconnection, L.L.C.

[Docket No. ER05-456-000]

Take notice that on January 14, 2005, PJM Interconnection, L.L.C. (PJM), submitted for filing an executed interconnection service agreement (ISA) among PJM, American Municipal Power-Ohio, Inc. as agent for Ohio Municipal Electric Generation Joint Venture 5, and American Electric Power Service Corporation as agent for Ohio Power Company doing business as AEP, and a notice of cancellation of an interim service agreement that has been superseded. PJM requests an effective date of December 16, 2004 for the ISA.

PJM states that copies of this filing were served upon the parties to the agreement and the state regulatory commissions within the PJM region.

Comment Date: 5 p.m. Eastern Time on February 4, 2005.

20. Duquesne Light Company

[Docket No. ER05-457-000]

Take notice that on January 14, 2005, Duquesne Light Company (Duquesne) submitted an amendment to an Interchange Agreement between affiliates of FirstEnergy Corp. (FirstEnergy) and Duquesne to reflect the disconnection and retirement from operation of one of the 69kV transmission lines that interconnects the transmission systems of FirstEnergy and Duquesne.

Duquesne states that copies of the filing were served on the state regulatory commissions with jurisdiction over Duquesne and FirstEnergy.

Comment Date: 5 p.m. Eastern Time on February 4, 2005.

21. Wisconsin Electric Power Company

[Docket No. ER05-458-000]

Take notice that on January 14, 2005, Wisconsin Electric Power Company (Wisconsin Electric) submitted proposed amendments to Wisconsin Electric's Electric Tariff, Second Revised Volume No. 2. Wisconsin Electric states that the amendments would revise Service Schedule F—Dynamic Regulation and Frequency Response Service to broaden its applicability to new generators locating within the control area historically (prior to January 1, 2001) operated by Wisconsin Electric Power Company and the historical service territory of Edison Sault Electric Company (Wisconsin Electric Control Area). Wisconsin Electric requests an effective date of March 15, 2005.

Wisconsin Electric states that copies of the filing were served on its CST customers and on the state regulatory bodies in Wisconsin and Michigan.

Comment Date: 5 p.m. Eastern Time on February 4, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Linda Mitry,
Deputy Secretary.

[FR Doc. E5-354 Filed 1-28-05; 8:45 am]

BILLING CODE 6717-01-P